INTERNATIONAL TRADE COMMISSION

[Investigation No. 337-TA-1213]

Certain Light-Emitting Diode Products, Fixtures, and Components Thereof; Notice of Commission Decision Not to Review an Initial Determination Granting Complainant's Motion To Amend the Complaint and Notice of Investigation

AGENCY: U.S. International Trade Commission.

ACTION: Notice.

SUMMARY: Notice is hereby given that the U.S. International Trade Commission has determined not to review an initial determination (“ID”) (Order No. 13) of the presiding administrative law judge (“ALJ”) granting complainant's motion to amend the complaint and notice of investigation (“NOI”) in the above-captioned investigation to add dependent claim 11 of U.S. Patent No. 8,403,531 (“the '531 patent”) and withdraw claims 17, 21, and 24 of the same patent.

FOR FURTHER INFORMATION CONTACT: Clint Gerdine, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: On August 17, 2020, the Commission instituted this investigation based on a complaint filed by Ideal Industries Lighting LLC d/b/a Cree Lighting (“Cree”) of Durham, North Carolina. 85 FR 50047-48 (Aug. 17, 2020). The complaint alleges violations of section 337 of the Tariff Act of 1930, as amended (19 U.S.C. 1337), based on the importation into the United States, the sale for importation, or the sale within the United States after importation of certain light-emitting diode products, fixtures, and components thereof by reason of infringement of certain claims of the '531 patent and U.S. Patent Nos. 8,596,819; 8,777,449; 9,261,270; and 9,476,570. Id. The complaint further alleges that a domestic industry exists. Id. The notice of investigation named RAB Lighting Inc. of Northvale, New Jersey (“RAB”) as the sole respondent. Id. The Office of Unfair Import Investigations is not participating in the investigation. Id.

On December 23, 2020, Cree filed a motion for leave to amend the complaint and notice of investigation (“NOI”) to add dependent claim 11 of the '531 patent, and withdraw claims 17, 21, and 24 of the same patent. RAB opposed the motion.

The ALJ issued the subject ID (Order No. 13) on January 8, 2021, granting Cree's motion for leave to amend the complaint and NOI. The ID finds that the prejudice to RAB is minimal and that the public interest weighs in favor of granting the motion to amend under Commission Rule 210.14(b)(1) because it is in the public interest to adjudicate all relevant claims as efficiently as possible, i.e., in a single investigation. No petitions for review of the subject ID were filed.

The Commission has determined not to review the ID.

The Commission vote for this determination took place on January 26, 2021.

The authority for the Commission's determination is contained in section 337 of the Tariff Act of 1930, as amended, 19 U.S.C. 1337, and in Part 210 of the Commission's Rules of Practice and Procedure, 19 CFR part 210.

By order of the Commission.
Issued: January 26, 2021.
Lisa Barton,
Secretary to the Commission.

[FR Doc. 2021-01982 Filed 1-28-21; 8:45 am]

BILLING CODE 7020-02-P